DEPARTMENT OF DEFENSE

Office of the Secretary

Defense Advisory Committee on Diversity and Inclusion; Notice of Federal Advisory Committee Meeting

AGENCY: Under Secretary of Defense for Personnel and Readiness (USD(P&R)), Department of Defense (DoD).

ACTION: Notice of Federal Advisory Committee meeting.

SUMMARY: DoD is publishing this notice to announce that the following Federal Advisory Committee meeting of the Defense Advisory Committee on Diversity and Inclusion (DACODAI) will occur.

DATES: DACODAI will hold an open-to-the-public meeting—Thursday, May 2, 2024, from 9:00 a.m. to 12:20 p.m. Eastern Daylight Time (EDT) and Friday, May 3, 2024, from 9:00 a.m. to 12:20 p.m. EDT.

ADDRESSES: The in-person meeting will be held at the Association of the United States Army Conference and Event Center, 2425 Wilson Blvd., Arlington, VA 22201. In addition, the meeting will be held via videoconference. Participant access information will be provided after registering.

FOR FURTHER INFORMATION CONTACT: Ms. Shirley Raguindin, (571) 645-6952 (voice), osd.mc-alex.ousd-p-r.mbx.dacodai@mail.mil (email). Additional information is also available at the DACODAI website: https://www.dhra.mil/DACODAI.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41 CFR 102-3.140 and 102-3.150.

Availability of Materials for the Meeting: Additional information, including the agenda or any updates to the agenda, is available on the DACODAI website: https://www.dhra.mil/DACODAI/. Materials presented in the meeting may also be obtained on the DACODAI website.

Purpose of the Meeting: The purpose of the meeting is for the DACODAI to receive briefings and have discussions on topics related to racial/ethnic diversity, inclusion, and equal opportunity within the Armed Forces of the United States.

Agenda: Thursday, May 2, 2024, from 9:00 a.m. to 12:20 p.m. EDT. The DACODAI will begin in an open session with opening remarks by Ms. Shirley Raguindin, the Designated Federal Officer (DFO) and the DACODAI's Chair, Gen. (Ret.) Lester Lyles. The DACODAI will receive the following briefings: (1) the Center for Naval Analysis by Dr. Elizabeth Clelan, Research Program Director, Navy Human Resources Program; (2) the Office of Force Resiliency (OFR), Violence Prevention Cell and Office of People Analytics—Command Climate Assessment and the Defense Organizational Climate Survey by Dr. Rachel Clare, Evaluation Specialist, OFR, and Dr. Ashlea Klahr, Acting Director, DoD OPA; and (3) the Department of Defense Talent Management by Mr. Brynt Parmeter, Chief Talent Management Officer, OUSD(P&R). Closing remarks will be provided by the Chair, Gen. (Ret.) Lyles, and Ms. Shirley Raguindin, DACODAI DFO, will adjourn the meeting.

Friday, May 3, 2024, from 9:00 a.m. to 12:20 p.m. EDT, the DACODAI will begin in an open session with opening remarks by Ms. Shirley Raguindin, the DFO and the DACODAI's Chair, Gen. (Ret.) Lester Lyles. The DACODAI will receive the following briefings: (1) the Central Intelligence Agency (CIA) Strategy by Mr. Jerry Laurienti, Chief Diversity and Inclusion Officer, CIA, Ms. Helene Diiorio, CIA Director's External Communications; (2) RAND Studies: (1) Impact of Eligibility Requirements and Propensity to Serve on Demographic Representation in the Department of the Air Force by Dr. Louse Mariano, Senior Statistician, RAND; and (2) Envisioning a New Racial Grievance Reporting and Redress System for the U.S. Military Focused Analysis on the Department of the Air Force by Dr. Dwayne Butler, Senior Management Scientist, Professor of Policy Analyses, Pardee RAND Graduate School; (3) DoD Inspector General (DoDIG) Military Leadership Diversity Commission Recap of Military Service Component's Progress by Ms. Aimee Hughes, Project Manager, Evaluations, DoDIG. Closing remarks will be provided by the Chair, Gen. (Ret.) Lyles, and Ms. Shirley Raguindin, DACODAI DFO, will adjourn the meeting.

Meeting Accessibility: Pursuant to 5 U.S.C. 552b and 41 CFR 102-3.140 and 102-3.150, this meeting is open to the public from 9:00 a.m. to 12:20 p.m. EDT on May 2, 2024; and from 9:00 a.m. to 12:20 p.m. on May 3, 2024 EDT. The meeting will be held via videoconference. The number of participants is limited and is on a first-come basis. All members of the public who wish to participate must register by contacting DACODAI at osd.mc-alex.ousd-p-r.mbx.dacodai@mail.mil or by contacting Ms. Shirley Raguindin at (571) 645-6952 no later than Friday, April 26, 2024, (by 5:00 p.m. EDT). Once registered, the web address and/or audio number will be provided.

Special Accommodations: Individuals requiring special accommodations to access the public meeting should contact Ms. Shirley Raguindin at osd.mc-alex.ousd-p-r.mbx.dacodai@mail.mil or (571) 645-6952 no later than Friday, April 26, 2024, (by 5:00 p.m. EDT) so appropriate arrangements can be made.

Written Comments and Statements: Pursuant to 41 CFR 102-3.140(c) and 41 CFR 102-3.105(j) and section 10(a)(3) of the FACA, the public or interested parties may submit written statements to the DACODAI membership about the DACODAI's mission and functions. Written statements may be submitted at any time or in response to the stated agenda of planned meetings of the DACODAI. All written statements shall be submitted to the DFO, Ms. Shirley Raguindin, for the DACODAI, who will ensure that the written statements are provided to the membership for their consideration. All written statements will be submitted to mailing address, 4800 Mark Center Drive, Suite 06E22, Alexandria, VA 22350. Members of the public interested in making an oral statement must submit a written statement. If a statement is not received by Friday, April 26, 2024, it may not be provided to or considered by the DACODAI during this biannual business meeting. After reviewing the written statements, the Chair and the DFO will determine if the requesting person(s) can make an oral presentation. The DFO will review all timely submissions with the DACODAI Chair and ensure they are provided to the members of the DACODAI.

Members of the public may also email written statements to osd.mc-alex.ousd-p-r.mbx.dacodai@mail.mil. Written statements pertaining to the meeting agenda for the DACODAI's meeting on May 2, 2024, must be submitted no later than 5:00 p.m. EDT, Friday, April 26, 2024, to be considered by the DACODAI membership prior to its May 2, 2024, meeting.

Dated: April 2, 2024.
Aaron T. Siegel,
Alternate OSD Federal Register Liaison Officer, Department of Defense.

[FR Doc. 2024-07403 Filed 4-5-24; 8:45 am]

BILLING CODE 6001-FR-P